DEPARTMENT OF TRANSPORTATION

Federal Aviation Administration

Notice of Passenger Facility Charge (PFC) Approvals and Disapprovals

AGENCY: Federal Aviation Administration (FAA), DOT.

ACTION: Monthly Notice of PFC Approvals and Disapprovals. In May 2013, there were four applications approved. Additionally, 10 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

PUBLIC AGENCY: County of Sonoma, Santa Rosa, California.

APPLICATION NUMBER: 13-05-C-00-STS.

APPLICATION TYPE: Impose and use a PFC.

PFC LEVEL: $4.50.

TOTAL PFC REVENUE APPROVED IN THIS DECISION: $425,000.

EARLIEST CHARGE EFFECTIVE DATE: July 1, 2013.

ESTIMATED CHARGE EXPIRATION DATE: June 1, 2014.

CLASS OF AIR CARRIERS NOT REQUIRED TO COLLECT PFC'S: None.

BRIEF DESCRIPTION OF PROJECTS APPROVED FOR COLLECTION AND USE: Acquire protective equipment for aircraft rescue and firefighting personnel. Acquire Americans with Disabilities Act passenger boarding ramp. Install common use flight information system.

DECISION DATE: May 13, 2013.

FOR FURTHER INFORMATION CONTACT: Neil Kumar, San Francisco Airports District Office, (650) 827-7627.

PUBLIC AGENCY: City of Minot, North Dakota.

APPLICATION NUMBER: 13-08-C-00-MOT.

APPLICATION TYPE: Impose and use a PFC.

PFC LEVEL: $4.50.

TOTAL PFC REVENUE APPROVED IN THIS DECISION: $11,706,547.

EARLIEST CHARGE EFFECTIVE DATE: July 1, 2013.

ESTIMATED CHARGE EXPIRATION DATE: August 1, 2023.

CLASSES OF AIR CARRIERS NOT REQUIRED TO COLLECT PFC'S: (1) Non-scheduled/on-demand air carriers filing FAA Form 1800-31; and (2) small certificated air carriers filing DOT Form T-100.

DETERMINATION: Approved. Based on information contained in the public agency's application, the FAA has determined that each proposed class accounts for less than 1 percent of the total annual enplanements at Minot International Airport.

BRIEF DESCRIPTION OF PROJECTS APPROVED FOR COLLECTION AND USE:

Construction and design of taxiway D.

Passenger terminal apron—design and construction.

Relocate snow removal equipment building—design and construction.

Passenger terminal building—design and construction.

Terminal access road—design and construction.

Terminal area study.

Preparation of PFC application 8.

Acquire snow removal equipment (sweeper).

DECISION DATE: May 13, 2013.

FOR FURTHER INFORMATION CONTACT: Mark Holzer, Bismarck Airports District Office, (701) 323-7390.

PUBLIC AGENCY: Greater Orlando Aviation Authority, Orlando, Florida.

APPLICATION NUMBER: 13-15-C-00-MCO.

APPLICATION TYPE: Impose and use a PFC.

PFC LEVEL: $4.50.

TOTAL PFC REVENUE APPROVED IN THIS DECISION: $189,994,500.

EARLIEST CHARGE EFFECTIVE DATE: June 1, 2026.

ESTIMATED CHARGE EXPIRATION DATE: December 1, 2028.

CLASS OF AIR CARRIERS NOT REQUIRED TO COLLECT PFC'S: None.

BRIEF DESCRIPTION OF PROJECT PARTIALLY APPROVED FOR COLLECTION AND USE AT A $4.50 PFC LEVEL: North terminal passenger capacity improvements 9 design and construction).

DETERMINATION. Partially approved. The reconfiguration and relocation of airline operations space and other tenant spaces does not meet the requirements of 14 CFR 158.15(b).

BRIEF DESCRIPTION OF PROJECT PARTIALLY APPROVED FOR COLLECTION AND USE AT A $3.00 PFC LEVEL: Baggage handling system capacity improvements (design and construction)—phase 2.

DETERMINATION. Partially approved. The expansion of the emergency generator building and replacement of emergency generators for the baggage handling system do not meet the requirements of 14 CFR 158.15(b).

DECISION DATE: May 17, 2013.

FOR FURTHER INFORMATION CONTACT: Susan Moore, Orlando Airports District Office, (407) 812-6331.

PUBLIC AGENCY: City of Billings Aviation and Transit Department, Billings, Montana.

APPLICATION NUMBER: 13-08-C-00-BIL.

APPLICATION TYPE: Impose and use a PFC.

PFC LEVEL: $3.00.

TOTAL PFC REVENUE APPROVED IN THIS DECISION: $2,033,000.

EARLIEST CHARGE EFFECTIVE DATE: July 1, 2013.

ESTIMATED CHARGE EXPIRATION DATE: May 1, 2015.

CLASS OF AIR CARRIERS NOT REQUIRED TO COLLECT PFC'S: None.

BRIEF DESCRIPTION OF PROJECTS APPROVED FOR COLLECTION AND USE:

Snow removal equipment—ramp blade replacement.

Reimbursement of construction costs—east end taxilane expansion.

Runway 10L/28R rehabilitation.

Snow removal equipment.

DECISION DATE: May 23, 2013.

FOR FURTHER INFORMATION CONTACT: Jason Garwood, Helena Airports District Office, (406) 449-5078.

Amendment to PFC Approvals
Amendment No., City, State | Amendment approved date | Original approved net PFC revenue | Amended approved net PFC revenue | Original estimated charge exp. date | Amended estimated charge exp. date
09-02-C-01-MMH, Mammoth Lakes, CA | 05/07/13 | $399,917 | $665,010 | 11/01/25 | 11/01/15
04-07-C-02-PHX, Phoenix, AZ | 05/10/13 | 222,250,000 | 246,977,086 | 08/01/08 | 08/01/08
07-08-C-01-PHX, Phoenix, AZ | 05/10/13 | 202,200,000 | 187,649,602 | 08/01/10 | 08/01/10
09-09-C-01-PHX, Phoenix, AZ | 05/10/13 | 1,858,836,000 | 1,940,493,949 | 11/01/28 | 08/01/30
11-04-C-01-CMI, Savoy, IL | 05/14/13 | 1,359,105 | 1,445,255 | 08/01/14 | 09/01/14
06-06-C-01-MSO, Missoula, MT | 05/14/13 | 3,334,760 | 3,255,904 | 02/01/09 | 01/01/09
11-07-C-01-SUN, Hailey, ID | 05/17/13 | 505,918 | 310,775 | 03/01/14 | 07/01/12
02-06-C-02-MSP, Minneapolis, MN | 05/20/13 | 793,254,352 | 774,213,674 | 12/01/15 | 04/01/14
05-07-U-02-MSP, Minneapolis, MN | 05/20/13 | NA | NA | 12/01/15 | 04/01/14
* 13-03-C-01-LNS, Lititz, PA | 05/23/13 | 35,917 | 35,917 | 05/01/15 | 05/01/15
Notes: The amendment denoted by an asterisk (*) include a change to the PFC level charged from $3.00 per enplaned passenger to $4.50 per enplaned passenger. For Lititz, PA, this change is effective on July 1, 2013.

Dated: Issued in Washington, DC, on December 6, 2013.
Joe Hebert,
Manager, Financial Analysis and Passenger Facility Charge Branch.

[FR Doc. 2013-29926 Filed 12-16-13; 8:45 am]

BILLING CODE 4910-13-P